DEPARTMENT OF THE INTERIOR

Bureau of Land Management

Colorado: Filing of Plats of Survey

July 5, 2006.

Summary: The plats of survey of the following described land will be officially filed in the Colorado State Office, Bureau of Land Management, Lakewood, Colorado, effective 10 a.m., July 5, 2006. All inquiries should be sent to the Colorado State Office (CO-956), Bureau of Land Management, 2850 Youngfield Street, Lakewood, Colorado 80215-7093.

The plat and field notes, of Mineral Survey 20931, in protracted Township 45 North, Range 6 West, New Mexico Principal Meridian, Colorado, and was accepted on April 5, 2006.

The supplemental plat of a portion of sections 7 and 8, Township 1 North, Range 71 West, of the Sixth Principal Meridian, Colorado, creating new lot 100 in the NE¼SE¼ of section 7, and creating new lots 192 through 198, in the SW¼ of section 8, was requested by the Canon City Field Office Land Surveyor and was accepted on April 12, 2006.

The supplemental plat of the NW¼ of Section 1, in Township 3 South, Range 73 West, Sixth Principal Meridian, Colorado, corrects the supplemental plat accepted May 6, 1963 by assigning new lot number 41, to the erroneously duplicated numbered lot 39. Lot 39 of section 1, had previously been created and depicted on the plats of the survey accepted May 19, 1930. This supplemental plat was requested by the Canon City Field Office and was accepted on April 17, 2006.

The supplemental plat of section 22, in Township 1 North, Range 71 West, Sixth Principal Meridian, Colorado, creating new Lots 27 to 36 in the SW¼ SW¼ of Section 22, was requested by the Canon City Field Office, and was accepted on May 5, 2006.

The plat and field notes, of the dependent resurvey in Section 9, Township 12 South, Range 71 West, Sixth Principal Meridian, Colorado, was requested by the Land Surveyor, Pike and San Isabel National Forests, in order to identify National Forest in conjunction with the Hayman Fire Rehabilitation Project, and was accepted on May 18, 2006.

The plat and field notes of the dependent resurvey and survey, in Section 18, Township 33 North, Range 7 West, New Mexico Principal Meridian, Colorado, was requested by the Southern Ute Indian Tribe, in order to identify a portion of the mineral estate of Southern Ute tribal trust lands, and was accepted on June 13, 2006.

The plat, of the entire record, of the dependent resurvey and survey, in Township 1 South, Range 72 West, and the plat (in two sheets) and field notes, of the dependent resurvey and survey in Township 1 North, Range 72 West, Sixth Principal Meridian, Colorado, was requested by the Land Surveyor, Arapaho and Roosevelt National Forest, in order to locate certain forest service boundaries that pertain to fuel reduction projects in the James Creek area, and were accepted on June 19, 2006.

The plat and field notes, of the dependent resurvey in Sections 11 and 14, Township 11 South, Range 69 West, Sixth Principal Meridian, Colorado, was requested by the Land Surveyor, Pike and San Isabel National Forests, in order to identify National Forest boundaries for proposed fuel reduction areas in the Manitou Experimental Forest, and was accepted on June 26, 2006.

The plat and field notes, of the dependent resurveys and surveys, in Township 8 North, Range 95 West, Sixth Principal Meridian, Colorado, was requested, dated April 18, 2005, by the Little Snake Field Office, Craig, Colorado, in order to identify Public Land boundaries, and was accepted on June 26, 2006.

Randall M. Zanon,
Chief Cadastral Surveyor for Colorado.

[FR Doc. E6-11012 Filed 7-12-06; 8:45 am]

BILLING CODE 4310-JB-P